DEPARTMENT OF THE INTERIOR

National Park Service

Benefits-Sharing Environmental Assessment, National Park Service

AGENCY: U.S. Department of the Interior, National Park Service.

ACTION: Notice of extension of time for comments to be submitted on the scope of the Benefits-Sharing Environmental Assessment (EA).

SUMMARY: The National Park Service is extending the public review period to August 27, 2001, for comments on the scope of the Benefits-Sharing Environmental Assessment. The notice of intent for the Benefits-Sharing EA was published in the Federal Register on June 25, 2001 (notice document 01-15559, pages 33712-33713). Corrections to this notice were published in the Federal Register on July 11, 2001 (page 36368). The public review period was originally to end on August 9, 2001. Comments may be mailed to: National Park Service, Benefits-Sharing Environmental Assessment, P.O. Box 168, Yellowstone National Park, WY 82190, or emailed to BenefitsEA@nps.gov.

DATES: Comments on the potential scope of the assessment, alternatives to be considered, impacts to be addressed, and any other relevant related issues should be submitted on or before August 27, 2001.

Michael Soukup,
Associate Director, Natural Resource Stewardship and Science.

[FR Doc. 01-18802 Filed 7-26-01; 8:45 am]

BILLING CODE 4310-70-P